FEDERAL DEPOSIT INSURANCE CORPORATION

Notice of Agency Meeting

Pursuant to the provisions of the “Government in the Sunshine Act” (5 U.S.C. 552b), notice is hereby given that the Federal Deposit Insurance Corporation's Board of Directors will meet in open session at 10 a.m. on Tuesday, July 19, 2005, to consider the following matters:

Summary Agenda: No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: Notice and Request for Public Comment Pursuant to the Economic Growth and Regulatory Paperwork Reduction Act of 1996 (EGRPRA).

Memorandum and resolution re: Final Rule Amending

Part 335 to Conform with the Requirements of the Securities Exchange Act.

Memorandum and resolution re: Federal Register Notice of an Altered Privacy Act System of Records.

Discussion Agenda

Memorandum and resolution re: Proposed Amendment to Part 363 Annual Audit and Reporting Requirements.

Memorandum and resolution re: New Proposed Rule on Insurance Coverage of Funds Underlying Stored Value Cards and Other Nontraditional Access Devices.

Memorandum and resolution re: Advance Notice of Proposed Rulemaking on Petition for Rulemaking to Preempt Certain State Laws.

Memorandum and resolution re: Notice of Proposed Rulemaking Implementing Senior Examiner Post-Employment Restrictions.

Memorandum and resolution re: Community Reinvestment Act Final Rule.

The meeting will be held in the Board Room on the sixth floor of the FDIC Building located at 550—17th Street, NW., Washington, DC.

The FDIC will provide attendees with auxiliary aids (e.g., sign language interpretation) required for this meeting. Those attendees needing such assistance should call (202) 416-2089 (Voice); or (202) 416-2007 (TTY), to make necessary arrangements.

Requests for further information concerning the meeting may be directed to Mr. Robert E. Feldman, Executive Secretary of the Corporation, at (202) 898-7043.

Dated: July 12, 2005.
Federal Deposit Insurance Corporation.
Robert E. Feldman,
Executive Secretary.

[FR Doc. E5-3780 Filed 7-15-05; 8:45 am]

BILLING CODE 6714-01-P